NATIONAL AERONAUTICS AND SPACE ADMINISTRATION

[Notice 02-034]

NASA Advisory Council, Planetary Protection Advisory Committee; Meeting

AGENCY: National Aeronautics and Space Administration.

ACTION: Notice of meeting.

SUMMARY: In accordance with the Federal Advisory Committee Act, Public Law 92-463, as amended, the National Aeronautics and Space Administration announces a forthcoming meeting of the NASA Advisory Council (NAC), Planetary Protection Advisory Committee (PPAC).

DATES: Monday, March 18, 2002, 1 p.m. to 5 p.m., Tuesday, March 19, 2002, 8:30 a.m. to 5 p.m.

ADDRESSES: NASA Headquarters, Conference Room 7H46, 300 E Street, SW., Washington, DC 20546.

FOR FURTHER INFORMATION CONTACT: Ms. Marian Norris, Code SB, National Aeronautics and Space Administration, Washington, DC 20546, 202/358-4452.

SUPPLEMENTARY INFORMATION: The meeting will be open to the public up to the capacity of the room. The agenda for the meeting includes the following:

—NASA Planetary Protection Policy

—NASA's Mars and Solar System Exploration Program

—Planetary Protection Advisory Committee's Role and Responsibilities

—Issues in Returned Sample Handling

—MUSES-C Mission

—Mars Planetary Protection: Issues and Status

—Emerging Issues in Planetary Protection

—Europa and the Outer Planets

—Human Exploration

It is imperative that the meeting be held on these dates to accommodate the scheduling priorities of the key participants. Visitors will be requested to sign a visitor's register.

Sylvia K. Kraemer,
Advisory Committee Management Officer, National Aeronautics and Space Administration.

[FR Doc. 02-5715 Filed 3-8-02; 8:45 am]

BILLING CODE 7510-01-P